DEPARTMENT OF HOMELAND SECURITY

Federal Law Enforcement Training Center

[Docket No. FLETC-2009-0001]

State and Local Training Advisory Committee

AGENCY: Federal Law Enforcement Training Center (FLETC), DHS.

ACTION: Committee Management; Notice of Federal Advisory Committee Meeting.

SUMMARY: The State and Local Training Advisory Committee (SALTAC) will meet on September 2, 2009, in Brunswick, GA. The meeting will be open to the public.

DATES: The SALTAC will meet Wednesday, September 2, 2009, from 8 a.m. to 4 p.m. Please note that the meeting may close early if the committee has completed its business.

ADDRESSES: The meeting will be held at the Embassy Suites Hotel, 500 Mall Boulevard, Brunswick, GA 31525. Send written material, comments, and/or requests to make an oral presentation to the contact person listed below by August 20. Requests to have a copy of your material distributed to each member of the committee prior to the meeting should reach the contact person at the address below by August 20. Comments must be identified by FLETC-2009-0001 and may be submitted by one of the following methods:

• Federal eRulemaking Portal: http://www.regulations.gov. Follow the instructions for submitting comments.

• E-mail: reba.fischer@dhs.gov. Include docket number in the subject line of the message.

• Fax: (912) 267-3531. (Not a toll-free number).

• Mail: Reba Fischer, Designated Federal Officer (DFO), Federal Law Enforcement Training Center, Department of Homeland Security, 1131 Chapel Crossing Road, Townhouse 396, Glynco, GA 31524.

Instructions: All submissions received must include the words “Department of Homeland Security” and the docket number for this action. Comments received will be posted without alteration at http://www.regulations.gov, including any personal information provided.

Docket: For access to the docket to read background documents or comments received by the State and Local Training Advisory Committee, go to http://www.regulations.gov.

FOR FURTHER INFORMATION CONTACT: Reba Fischer, Designated Federal Officer, Federal Law Enforcement Training Center, Department of Homeland Security, 1131 Chapel Crossing Road, Townhouse 396, Glynco, GA 31524; (912) 267-2343; reba.fischer@dhs.gov.

SUPPLEMENTARY INFORMATION: Notice of this meeting is given under the Federal Advisory Committee Act, 5 U.S.C. App. (Pub. L. 92-463). The mission of the State and Local Training Advisory Committee is to advise and make recommendations on matters relating to the selection, development, content and delivery of training services by the OSL/FLETC to its State, local, campus, and tribal law enforcement customers. The draft agenda for this meeting focuses on the Rural Policing Institute (RPI). Committee members will provide recommendations on providing training to rural law enforcement and emergency responder professionals.

Procedural: This meeting is open to the public. Please note that the meeting may close early if all business is finished.

Visitors must pre-register attendance to ensure adequate seating. Please provide your name and telephone number by close of business on August 20, to Reba Fischer (contact information above).

Information on Services for Individuals with Disabilities: For information on facilities or services for individuals with disabilities or to request special assistance at the meeting, contact Reba Fischer as soon as possible.

Dated: July 9, 2009.
Seymour A. Jones,
Deputy Assistant Director, Office of State and Local Training.

[FR Doc. E9-17682 Filed 7-23-09; 8:45 am]

BILLING CODE 4810-32-P